DEPARTMENT OF STATE

[Public Notice: 10343]

U.S. Advisory Commission on Public Diplomacy; Notice of Meeting

The U.S. Advisory Commission on Public Diplomacy will hold a public meeting from 10:30 a.m. until 12:00 p.m., Tuesday, March 20, 2018 at the Rayburn Office Building, room 2200 (45 Independence Ave SW, Washington, DC 20515).

The public meeting will be on Optimizing diplomatic engagement: An evidence-based, results-oriented approach. The session will include a presentation and discussion of recommendations on improving the assessment of State Department public diplomacy programs.

This meeting is open to the public, members and staff of Congress, the State Department, Defense Department, the media, and other governmental and non-governmental organizations. An RSVP is required. To attend and make any requests for reasonable accommodation, email Michelle Bowen at BowenMC1@state.gov by 5pm on Friday, March 16, 2018. Please arrive for the meeting by 10:15am to allow for a prompt start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. Sim Farar of California, Chairman; Mr. William Hybl of Colorado, Vice Chairman; Ambassador Penne Korth-Peacock of Texas; Anne Terman Wedner of Illinois; and Ms. Georgette Mosbacher of New York. Two seats on the Commission are currently vacant.

To request further information about the meeting or the U.S. Advisory Commission on Public Diplomacy, you may contact its Executive Director, Dr. Shawn Powers, at PowersSM@state.gov.

Shawn Powers,
Executive Director, Advisory Commission on Public Diplomacy, Department of State.

[FR Doc. 2018-04505 Filed 3-5-18; 8:45 am]

BILLING CODE 4710-45-P